DEPARTMENT OF TRANSPORTATION

Federal Highway Administration

Environmental Impact Statement: Cook County, Illinois

AGENCY: Federal Highway Administration (FHWA), DOT.

ACTION: Notice of Intent.

SUMMARY: The FHWA is issuing this notice to advise the public that an environmental impact statement will be prepared for a proposed highway project in Cook County, Illinois.

FOR FURTHER INFORMATION CONTACT: Catherine A. Batey, Division Administrator, Federal Highway Administration, 3250 Executive Park Drive, Springfield, Illinois 62703, Phone: (217) 492-4600. John Fortmann, P.E., Deputy Director of Highways, Region One Engineer, District 1, Illinois Department of Transportation, 201 W. Center Court, Schaumburg, IL 60196-1096, Phone: (847) 705-4110.

SUPPLEMENTARY INFORMATION: The FHWA, in cooperation with the Illinois Department of Transportation, will prepare an environmental impact statement (EIS) on a proposal to improve North Lake Shore Drive located in the Illinois county of Cook. The project study area encompasses North Lake Shore Drive from Grand Avenue to Hollywood Avenue where North Lake Shore Drive terminates at the intersection of Hollywood Avenue and Sheridan Road. The section of North Lake Shore Drive from Grand Avenue to Foster Avenue is designated as U.S. Route 41. North of Foster Avenue, North Lake Shore Drive is an unmarked State route.

Improvements to the corridor are considered necessary due to safety concerns and operational issues as well as infrastructure condition. Alternatives that may be considered include (1) taking no action; and (2) a full range of multi-modal build alternatives that involve the reconstruction of North Lake Shore Drive.

Improvements to North Lake Shore Drive have the potential to affect environmental features in the project area. Almost the entire length of the roadway is located within historic Lincoln Park, where no roadway right-of-way exists. All land beyond the backs of curbs is considered to be park land. Potential environmental issue areas include: parks, special waste sites, historic bridges, historic buildings, air quality, noise, natural resources, water resources and related indirect and cumulative impact considerations.

Letters describing the proposed action and soliciting comments will be sent to appropriate Federal, State, and local agencies. As part of the EIS process, a scoping meeting for obtaining input from Resource Agencies was held on September 19, 2013. The Illinois Department of Transportation's Context Sensitive Solutions (CSS) process will be used for public involvement. A Stakeholder Involvement Plan (SIP) will be developed to ensure that the full range of issues related to this proposed project are identified and addressed. The SIP provides meaningful opportunities for all stakeholders to participate in defining transportation issues and solutions for the study area. One public meeting will be held in Cook County at each project milestone. In addition to the public meetings, a public hearing and comment period will be held following the release of the Draft EIS. Public notice will be given for the time and place of the public meetings and hearing. A project Web site has been established (www.northlakeshoredrive.org) as one element of the project public involvement process.

To ensure that the full range of issues related to this proposed action are addressed and all significant issues identified, comments, and suggestions are invited from all interested parties. Comments or questions concerning this proposed action and the EIS should be directed to the FHWA at the address provided above.

(Catalog of Federal Domestic Assistance Program Number 20.205, Highway Planning and Construction. The regulations implementing Executive Order 12372 regarding intergovernmental consultation on Federal programs and activities apply to this program.)

Issued on: May 2, 2014.
Glenn D. Fulkerson,
Assistant Division Administrator, Springfield, Illinois.

[FR Doc. 2014-10563 Filed 5-7-14; 8:45 am]

BILLING CODE 4910-22-P